DEPARTMENT OF JUSTICE

Antitrust Division

Notice Pursuant to the National Cooperative Research and Production Act of 1993—Nano-Engineered Thermal Interfaces Enabling Next Generation Microelectronics

Notice is hereby given that, on October 2, 2003, pursuant to Section 6(a) of the National Cooperative Research and Production Act of 1993, 15 U.S.C. 4301 et seq. (“the Act”), Nano-Engineered Thermal Interfaces Enabling Next Generation Microelectronics has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are General Electric Global Research, Niskayuna, NY; Superior MicroPowders, LLC, Albuquerque, New Mexico; and The Research Foundation of SUNY at Binghamton, Binghamton, NY. The nature and objectives of the venture are to develop and demonstrate nano-engineered thermal interfaces materials enabling next generation microelectronics.

Dorothy B. Fountain,
Deputy Director of Operations, Antitrust Division.

[FR Doc. 03-29762 Filed 11-28-03; 8:45 am]

BILLING CODE 4410-11-M